DEPARTMENT OF COMMERCE

National Oceanic and Atmospheric Administration

50 CFR Part 679

[Docket No. 021212307-3037-02; I.D. 081503B]

Fisheries of the Exclusive Economic Zone off Alaska; Reallocation of Pollock in the Bering Sea Subarea

AGENCY: National Marine Fisheries Service (NMFS), National Oceanic and Atmospheric Administration (NOAA), Commerce.

ACTION: Reallocation.

SUMMARY: NMFS is reallocating projected unused amounts of Bering Sea subarea (BS) pollock from the incidental catch account to the directed fisheries. This action is necessary to allow the 2003 total allowable catch (TAC) of pollock to be harvested.

DATES: Effective August 26, 2003, until 2400 hrs, A.l.t., December 31, 2003.

FOR FURTHER INFORMATION CONTACT: Andrew Smoker, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(5)(i)(A)(1) and the American Fisheries Act (AFA) (Public Law 105-277, Division C, Title II), NMFS specified a pollock incidental catch allowance equal to 3.5 percent of the pollock total allowable catch after subtraction of the ten percent Community Development Quota reserve in the final 2003 harvest specifications for groundfish in the BSAI (68 FR 9907, March 3, 2003).

As of August 6, 2003, the Administrator, Alaska Region, NMFS (Regional Administrator), has determined that approximately 21,887 metric tons (mt) of pollock remain in the incidental catch account. Based on projected harvest rates of other groundfish species and the expected incidental catch of pollock in those fisheries, the Regional Administrator has determined that 6,500 mt of pollock specified in the incidental catch account will not be necessary as incidental catch. Therefore, NMFS is apportioning the projected unused amount, 6,500 mt, of pollock from the incidental catch account to the directed fishing allowances established pursuant to § 679.20(a)(5)(i)(A). Pursuant to the pollock allocation requirements set forth in § 679.20(a)(5)(i), this transfer will increase the allocation to catcher vessels harvesting pollock for processing by the inshore component by 3,250 mt, to catcher/processors and catcher vessels harvesting pollock for processing by catcher processors in the offshore component by 2,600 mt and to catcher vessels harvesting pollock for processing by motherships in the offshore component by 650 mt. Pursuant to § 679.20(a)(5)(i)(A)(4), no less than 8.5 percent of the 2,600 mt allocated to catcher processors in the offshore component, 221 mt, will be available for harvest only by eligible catcher vessels delivering to listed catcher processors. Pursuant to § 679.20(a)(5)(i)(A)(4)(iii), an additional 13 mt or 0.5 percent of the catcher/processor sector allocation of pollock will be available to unlisted AFA catcher/processors.

Pursuant to § 679.20(a)(5)(i)(A)(3), Table 1 revises the final 2003 BS subarea allocations for the seven inshore catcher vessel pollock cooperatives that have been approved and permitted by NMFS and the open access AFA vessels for the 2003 fishing year consistent with this reallocation.

TABLE 1.—2003 BERING SEA SUBAREA INSHORE COOPERATIVE ALLOCATIONS
Cooperative name and member vessels | Sum of member vessel's official catch histories¹(mt) | Percentage of inshore sector allocation | Annual co-op allocation (mt)
Akutan Catcher Vessel Association | 245,527 | 28.085% | 182,845
ALDEBARAN, ARCTIC EXPLORER, |  |  |
ARCTURUS, BLUE FOX, CAPE KIWANDA, |  |  |
COLUMBIA,DOMINATOR, EXODUS, |  |  |
FLYING CLOUD, GOLDEN DAWN, |  |  |
GOLDEN PISCES, HAZEL LORRAINE, |  |  |
INTREPID EXPLORER, LESLIE LEE, LISA |  |  |
MELINDA, MAJESTY, MARCY J, |  |  |
MARGARET LYN, NORDIC EXPLORER, |  |  |
NORTHERN PATRIOT, NORTHWEST |  |  |
EXPLORER, PACIFIC RAM, |  |  |
PACIFIC VIKING, PEGASUS, PEGGY JO, |  |  |
PERSEVERANCE, PREDATOR, RAVEN, |  |  |
ROYAL AMERICAN, SEEKER, |  |  |
SOVEREIGNTY, TRAVELER, |  |  |
VIKING EXPLORER |  |  |
Arctic Enterprise Association | 36,807 | 4.210% | 27,410
BRISTOL EXPLORER, OCEAN EXPLORER, |  |  |
PACIFIC EXPLORER |  |  |
Northern Victor Fleet Cooperative | 73,656 | 8.425% | 54,852
ANITA J, COLLIER BROTHERS, |  |  |
COMMODORE, EXCALIBUR II, |  |  |
GOLDRUSH, HALF MOON BAY, MISS |  |  |
BERDIE, NORDIC FURY, PACIFIC FURY, |  |  |
POSEIDON, ROYAL ATLANTIC, |  |  |
SUNSET BAY, STORM PETREL |  |  |
Peter Pan Fleet Cooperative | 18,693 | 2.138% | 13,921
AMBER DAWN, AMERICAN BEAUTY, |  |  |
ELIZABETH F, MORNING STAR, OCEAN |  |  |
LEADER, OCEANIC, PROVIDIAN, TOPAZ, |  |  |
WALTER N |  |  |
Unalaska Cooperative | 106,737 | 12.209% | 79,488
ALASKA ROSE, BERING ROSE, |  |  |
DESTINATION, GREAT PACIFIC, |  |  |
MESSIAH, MORNING STAR, MS AMY, |  |  |
PROGRESS, SEA WOLF, VANGUARD, |  |  |
WESTERN DAWN |  |  |
UniSea Fleet Cooperative | 201,566 | 23.056% | 150,107
ALSEA, AMERICAN EAGLE, ARGOSY, |  |  |
AURIGA, AURORA, DEFENDER, |  |  |
GUN-MAR, NORDIC STAR, PACIFIC |  |  |
MONARCH, SEADAWN, STARFISH, |  |  |
STARLITE |  |  |
Westward Fleet Cooperative | 189,942 | 21.727% | 141,451
A.J., ALASKAN COMMAND, ALYESKA, |  |  |
ARCTIC WIND, CAITLIN ANN, |  |  |
CHELSEA K, DONA MARTITA, |  |  |
FIERCE ALLEGIANCE, HICKORY WIND, |  |  |
OCEAN HOPE 3, PACIFIC CHALLENGER, |  |  |
PACIFIC KNIGHT, PACIFIC PRINCE, |  |  |
STARWARD, VIKING, WESTWARD I |  |  |
Open access AFA vessels | 1,309 | 0.150% | 975
Total inshore allocation | 874,238 | 100% | 651,047
¹ According to regulations at § 679.62 the individual catch history for each vessel is equal to the vessel's best 2 of 3 years inshore pollock landings from 1995 through 1997 and includes landings to catcher/processors for vessels that made 500 or more mt of landings to catcher/processors from 1995 through 1997.

Classification

This action responds to the best available information recently obtained from the fishery. The Assistant Administrator for Fisheries, NOAA (AA), finds good cause to waive the requirement to provide prior notice and opportunity for public comment pursuant to the authority set forth at 5 U.S.C. 553(b)(B) as such requirement is contrary to the public interest. This requirement is contrary to the public interest as it would delay the implementation of these measures in a timely fashion in order to allow full utilization of the pollock TAC, and therefore reduce the public's ability to use and enjoy the fishery resource.

The AA also finds good cause to waive the 30-day delay in the effective date of this action under 5 U.S.C. 553(d)(3). This finding is based upon the reasons provided above for waiver of prior notice and opportunity for public comment.

This action is taken under 50 CFR 679.20, and is exempt from review under Executive Order 12866.

Authority: 16 U.S.C. 1801 et seq.

Dated: August 25, 2003.
Bruce C. Morehead,
Acting Director, Office of Sustainable Fisheries, National Marine Fisheries Service.

[FR Doc. 03-22181 Filed 8-26-03; 3:01 pm]

BILLING CODE 3510-22-S